DEPARTMENT OF COMMERCE

Foreign-Trade Zones Board

[Order No. 1814]

Reorganization of Foreign-Trade Zone 124 Under Alternative Site Framework; Gramercy, Louisiana

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/09; correction 74 FR 3987, 01/22/09; 75 FR 71069-71070, 11/22/10) as an option for the establishment or reorganization of general-purpose zones;

Whereas, the Port of South Louisiana, grantee of Foreign-Trade Zone 124, submitted an application to the Board (FTZ Docket 44-2011, filed 6/24/2011) for authority to reorganize under the ASF with a service area of St. Charles, St. John the Baptist, St. James, La Fourche and St. Mary Parishes in Louisiana, within and adjacent to the Gramercy Customs and Border Protection port of entry, FTZ 124's existing Site 1 would be removed from the zone project and Sites 2, 3 and 4 would be categorized as magnet sites;

Whereas, notice inviting public comment was given in the Federal Register (76 FR 38356-38357, 6/30/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 124 under the alternative site framework is approved, subject to the FTZ Act and the Board's regulations, including Section 400.28, to the Board's standard 2,000-acre activation limit for the overall general-purpose zone project, and to a five-year ASF sunset provision for magnet sites that would terminate authority for Sites 3 and 4 if not activated by January 31, 2017.

Signed at Washington, DC, this 31st day of January 2012.
Paul Piquado,
Assistant Secretary of Commerce for Import Administration, Alternate Chairman, Foreign-Trade Zones Board.

Andrew McGilvray,
Executive Secretary.

[FR Doc. 2012-2776 Filed 2-6-12; 8:45 am]

BILLING CODE P